DEPARTMENT OF LABOR

Employment and Training Administration

Proposed Information Collection Request Submitted for Public Comment and Recommendations; Extension of the Unemployment Insurance (UI) Title XII Advances Process

ACTION: Notice.

SUMMARY: The Department of Labor (DOL), as part of its continuing effort to reduce paperwork and respondent burden, conducts a preclearance consultation program to provide the general public and Federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirements on respondents can be properly assessed. Currently, the DOL is soliciting comments concerning the proposed extension of the process for requesting advances from the Federal Unemployment Account (FUA) and repayment of such advances under title XII of the Social Security Act (SSA). Technically, there is no request for information. There is, however, a paperwork burden on States because they must prepare and transmit formal requests for the authority to request advances and the repayment of said advances.

A copy of the proposed procedure can be obtained by contacting the addressee listed below.

DATES: Written comments must be submitted on or before February 14, 2003.

ADDRESSES: Office of Workforce Security, Employment and Training Administration, Department of Labor, Room S 4231, 200 Constitution Ave, NW., Washington, DC, 20210; 202-693-3200 (this is not a toll-free number).

FOR FURTHER INFORMATION CONTACT: James E. Herbert 202-693-2926, jherbert@doleta.gov.

SUPPLEMENTARY INFORMATION:

I. Background

Title XII section 1201 of the SSA provides for advances to States from the FUA. The law further sets out specific requirements to be met by a State requesting an advance:

• The Governor must apply for the advance;

• The application must cover a 3 month period and the Secretary of Labor must be furnished with estimates of the amounts needed in each month of the 3 month period;

• An application for an advance shall be made on such forms and shall contain such information and data (fiscal and otherwise) concerning the operation and administration of the State unemployment compensation law as the Secretary of Labor deems necessary or relevant to the performance of his duties under this title;

• The amount required by any State for the payment of compensation in any month shall be determined with due allowance for contingencies and taking into account all other amounts that will be available in the State's unemployment fund for the payment of compensation in such month;

• The term “compensation” means cash benefits payable to individuals with respect to their unemployment exclusive of expenses of administration.

Section 1202(a) of the SSA provides that the Governor of any State may at any time request that funds be transferred from the account of such State to the FUA in repayment of part or all of the balance of advances made to such State under section 1201. These applications and repayments may be requested by an individual designated for that authority in writing by the Governor. The DOL proposes to extend this procedure through January 2006.

II. Review Focus

The DOL is particularly interested in comments which:

• Evaluate whether the proposed extension of the current procedure is necessary for the proper performance of the functions of the agency, including whether the information will have practical utility;

• Evaluate the accuracy of the agency's estimate of the burden of the proposed extension of the current procedure, including the validity of the methodology and assumptions used;

• Enhance the quality, utility, and clarity of the procedure; and

• Minimize the burden of the procedure on those who are to respond, including the use of appropriate automated, electronic, mechanical, or other technological collection techniques or other forms of information technology, e.g., permitting electronic submission of responses.

III. Current Actions

This action is requested to maintain the continuity of current procedures which have succeeded in the orderly application and repayment operations at both the State and Federal levels. This is not a data collection process.

Agency: Employment and Training Administration, Department of Labor.

Title: Governor's requests for advances from the Federal unemployment account or requests for voluntary repayment of such advances.

OMB Number: 1205-0199.

Affected Public: State governments.

Total Respondents: 50 States, Washington, DC, the Virgin Islands, and Puerto Rico are covered by this process. The DOL estimates eight States will request advances and make voluntary repayments over the next 3 years. The DOL estimates that there will be 10 annual actions for each State.

Frequency: As needed, based on a State's discretion.

Total Responses: 240.

Average Time Per Response: 1 hour.

Estimated Total Burden Hours: 240.

Estimated Total Burden Cost: There are no startup or capital costs. The operating and maintenance costs for the States will be 240 hours × $25 per hour = $6,000. The operating and maintenance costs for the Federal government will be 240 responses × 3 hours per response × $60 per hour = $43,200.

Comments submitted in response to this notice will be summarized and/or included in the request for Office of Management and Budget approval of the information collection request; they will also become a matter of public record.

Dated: December 10, 2002.
Cheryl Atkinson,
Administrator, Office of Workforce Security.

[FR Doc. 02-31526 Filed 12-13-02; 8:45 am]

BILLING CODE 4510-30-P